DEPARTMENT OF TRANSPORTATION

Federal Aviation Administration

Notice of Availability and Request for Comment on the Draft Environmental Assessment (EA) for the Launch and Reentry of SpaceShipTwo Reusable Suborbital Rockets at the Mojave Air and Space Port

AGENCY: Federal Aviation Administration (FAA), lead Federal agency and United States Air Force and National Aeronautics and Space Administration, cooperating agencies.

ACTIONS: Notice of Availability, Notice of Public Comment Period, and Request for Comment.

SUMMARY: In accordance with the National Environmental Policy Act (NEPA) of 1969, 42 United States Code § 4321-4347 (as amended), Council on Environmental Quality (CEQ) NEPA implementing regulations (40 Code of Federal Regulations [CFR] Parts 1500-1508), and FAA Order 1050.1E, Change 1, the FAA is announcing the availability of and requesting comments on the Draft EA for the Launch and Reentry of SpaceShipTwo Reusable Suborbital Rockets at the Mojave Air and Space Port.

The Draft EA was prepared to analyze the potential environmental impacts of issuing experimental permits and/or launch licenses to operate SpaceShipTwo Reusable Suborbital Rockets and WhiteKnightTwo carrier aircraft at the Mojave Air and Space Port in Mojave, California. Under the Proposed Action, the FAA would issue experimental permits and/or launch licenses to multiple operators for the operation of SpaceShipTwo and WhiteKnightTwo at the Mojave Air and Space Port. Both WhiteKnightTwo and SpaceShipTwo would be piloted during operations. The Mojave Air and Space Port comprises an area of approximately 3,000 acres in Kern County, California, and is east of the unincorporated town of Mojave. The Draft EA addresses the potential environmental impacts of implementing the Proposed Action and the No Action Alternative of not issuing an experimental permit and/or launch license for the operation of SpaceShipTwo and WhiteKnightTwo at the Mojave Air and Space Port.

The FAA has posted the Draft EA on the FAA/AST Web site at http://www.faa.gov/about/office_org/headquarters_offices/ast/environmental/review/permits/. A paper copy of the Draft EA may be reviewed for comment during regular business hours at the following locations:

Edwards AFB Base Library, 95 SPTG/SVMG, 5 West Yeager Blvd., Building 2665, Edwards AFB, CA 93524-1295.

Kern County Library, Boron Branch, 26967 20 Mule Team Road, Boron, CA 93516.

Kern County Library, California City Branch, 9507 California City Boulevard, California City, CA 93505.

Kern County Library, Kernville Branch, 48 Tobias Street, Kernville, CA 93238.

Kern County Library, Mojave Branch, 16916-1/2 Highway 14, Mojave, CA 93501.

Kern County Library, Ridgecrest Branch, 131 East Las Flores Avenue, Ridgecrest, CA 93555.

Kern County Library, Tehachapi Branch, 450 West F Street, Tehachapi, CA 93561.

Kern County Library, Wofford Heights Branch, 6400-B Wofford Boulevard, Wofford Heights, CA 93285.

Kern River Valley Library, 7054 Lake Isabella Boulevard, Lake Isabella, CA 93240.

Kern River Valley Library, Wanda Kirk Branch (Rosamond), 3611 Rosamond Boulevard, Rosamond, CA 93560.

DATES: Interested parties are invited to submit comments on environmental issues and concerns on or before April 13, 2012, or 30 days from the date of publication of this Notice of Availability, whichever is later.

ADDRESSES: Please submit comments in writing to Mr. Daniel Czelusniak, Environmental Program Lead, Office of Commercial Space Transportation, Federal Aviation Administration, 800 Independence Avenue SW., Room 325, Washington, DC 20591; or by email at Daniel.Czelusniak@faa.gov.

Additional Information: Under the Proposed Action, the FAA would issue experimental permits and/or launch licenses for the operation of SpaceShipTwo and WhiteKnightTwo at the Mojave Air and Space Port in Mojave, CA. The Proposed Action does not include any construction activities. The Mojave Air and Space Port's existing infrastructure would be used for takeoff and landing activities. Experimental permits would be valid for one year. Launch licenses would be valid for up to two years. The FAA could renew experimental permits and launch licenses if requested, in writing, by the permitees at least 60 days before the permit expires, and/or by the licensees at least 90 days before the license expires. The Draft EA assumes that the FAA could issue either new or renewed experimental permits and/or launch licenses. For purposes of analyzing environmental impacts in the Draft EA, the FAA developed a conservative set of assumptions regarding the possible number of launches and reentries that could be conducted under any one experimental permit and/or launch license for the SpaceShipTwo at the Mojave Air and Space Port. The FAA has assumed a maximum of up to 30 total launches and reentries per year of SpaceShipTwo for a total of up to 150 launches and reentries of SpaceShipTwo between 2012 and 2016. This estimation is a conservative number and considers potential multiple launches per day and potential launch aborts.

The only alternative to the Proposed Action analyzed in the Draft EA is the No Action Alternative. Under the No Action Alternative, the FAA would not issue experimental permits and/or launch licenses for the operation of SpaceShipTwo and WhiteKnightTwo from the Mojave Air and Space Port. Existing operations at Mojave Air and Space Port would continue.

The resource areas considered in the Draft EA include air quality; biological resources (including fish, wildlife, and plants); historical, architectural, archaeological, and cultural resources; hazardous materials, pollution prevention, and solid waste; health and safety; land use (including Department of Transportation Section 4(f) properties); light emissions and visual resources; noise and compatible land use; socioeconomic resources, environmental justice, and children's environmental health and safety; and cumulative impacts.

FOR FURTHER INFORMATION CONTACT: Mr. Daniel Czelusniak, Environmental Program Lead, Office of Commercial Space Transportation, Federal Aviation Administration, 800 Independence Avenue SW., Room 325, Washington, DC 20591; telephone (202) 267-5924; email: Daniel.Czelusniak@faa.gov.

Issued in Washington, DC, on March 7, 2012.
Michael McElligott,
Manager, Space Transportation Development Division.

[FR Doc. 2012-6000 Filed 3-12-12; 8:45 am]

BILLING CODE 4910-13-P